SECURITIES AND EXCHANGE COMMISSION

[File No. 500-1]

In the Matter of Alternate Energy Holdings, Inc.; Order of Suspension of Trading

December 14, 2010.

It appears to the Securities and Exchange Commission that there is a lack of current and accurate information concerning the securities of Alternate Energy Holdings, Inc. (“AEHI”) because of questions regarding the accuracy and adequacy of disclosures by AEHI concerning, among other things: (1) The stock sales of certain AEHI officers, (2) the status and viability of funding to build a nuclear reactor, and (3) executive compensation. AEHI is quoted on the OTC Bulletin Board and on the Pink Sheets operated by Pink OTC Markets, Inc. under the ticker symbol “AEHI.”

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 14, 2010 through 11:59 p.m. EST, on December 28, 2010.

By the Commission.
Florence E. Harmon,
Deputy Secretary.

[FR Doc. 2010-31698 Filed 12-14-10; 4:15 pm]

BILLING CODE 8011-01-P